DEPARTMENT OF LABOR

Employment and Training Administration

[TA-W-55,196]

Celanese, Bishop, TX; Notice of Termination of Investigation

Pursuant to Section 221 of the Trade Act of 1974, an investigation was initiated on July 6, 2004, in response to a petition filed by a company official on behalf of workers at Celanese, Bishop, Texas.

The petitioner has requested that the petition be withdrawn. Consequently, further investigation in this case would serve no purpose, and the investigation has been terminated.

Signed in Washington, DC this 12th day of July 2004.
Linda G. Poole,
Certifying Officer, Division of Trade Adjustment Assistance.

[FR Doc. 04-16765 Filed 7-22-04; 8:45 am]

BILLING CODE 4510-30-P